DEPARTMENT OF THE INTERIOR

National Park Service

[NPS-WASO-NAGPRA-NPS0027116; PPWOCRADN0-PCU00RP14.R50000]

Notice of Inventory Completion: U.S. Department of the Interior, Bureau of Reclamation, Upper Colorado Region, Salt Lake City, UT

AGENCY: National Park Service, Interior.

ACTION: Notice.

SUMMARY: The U.S. Department of the Interior, Bureau of Reclamation, Upper Colorado Region (Reclamation) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Reclamation. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Reclamation at the address in this notice by March 11, 2019.

ADDRESSES: Bill R. Chada, U.S. Department of the Interior, Bureau of Reclamation, Upper Colorado Region, 125 South State Street, Room 8100, Salt Lake City, UT 84138, telephone (801) 524-3646, email bchada@usbr.gov.

SUPPLEMENTARY INFORMATION: Notice is here given in accordance with the Native American Graves Protection and Repatriation Act (NAGPRA), 25 U.S.C. 3003, of the completion of an inventory of human remains and associated funerary objects under the control of the U.S. Department of the Interior, Bureau of Reclamation, Upper Colorado Region, Salt Lake City, UT, and in the custody of the University of Utah, Utah Museum of Natural History, Salt Lake City, UT. The human remains and associated funerary objects were removed from multiple locations in Kane and San Juan Counties, UT.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Reclamation professional staff in consultation with representatives of the Havasupai Tribe of the Havasupai Reservation, Arizona; Hopi Tribe of Arizona; Hualapai Indian Tribe of the Hualapai Indian Reservation, Arizona; Kaibab Band of Paiute Indians of the Kaibab Indian Reservation, Arizona; Navajo Nation, Arizona, New Mexico, & Utah; Paiute Indian Tribe of Utah (Cedar Band of Paiutes, Kanosh Band of Paiutes, Koosharem Band of Paiutes, Indian Peaks Band of Paiutes, and Shivwits Band of Paiutes (formerly Paiute Indian Tribe of Utah (Cedar City Band of Paiutes, Kanosh Band of Paiutes, Koosharem Band of Paiutes, Indian Peaks Band of Paiutes, and Shivwits Band of Paiutes)); Pueblo of Jemez, New Mexico; Pueblo of Pojoaque, New Mexico; Pueblo of Santa Clara, New Mexico; Pueblo of Zia, New Mexico; Southern Ute Indian Tribe of the Southern Ute Reservation, Colorado; Ute Mountain Ute Tribe (previously listed as the Ute Mountain Tribe of the Ute Mountain Reservation, Colorado, New Mexico & Utah); and the Zuni Tribe of the Zuni Reservation, New Mexico (hereafter referred to as “The Consulted Tribes”).

History and Description of the Remains

In 1957, human remains representing, at minimum, one individual were removed from 42KA172, the Alvey Site, a rockshelter adjacent to a tributary of the Escalante River, Kane County, UT. No known individuals were identified. No associated funerary objects are present.

In 1960, human remains representing, at minimum, two individuals were removed from 42SA314, on Cedar Mesa, San Juan County, UT. No known individuals were identified. No associated funerary objects are present.

In 1959, human remains representing, at minimum, two individuals were removed from 42SA366 (NA5501), Husteds Well, a Kayenta Anasazi pithouse in Forgotten Canyon, San Juan County, UT. No known individuals were identified. No associated funerary objects are present.

In 1958, human remains representing, at minimum, two individuals were removed from 42SA396, a surface scatter in Catfish Canyon, San Juan County, UT. No known individuals were identified. No associated funerary objects are present.

In 1962, human remains representing, at minimum, three individuals were removed from 42SA454, Steer Palace, in Castle Wash, San Juan County, UT. No known individuals were identified. The seven associated funerary objects are five pottery vessels, one stone bead necklace, and one turquoise and black bead bracelet.

In 1960, human remains representing, at minimum, two individuals were removed from 42SA544, Horsefly Hollow, in Lake Canyon, San Juan County, UT. No known individuals were identified. The six associated funerary objects are two pottery vessels, two manos, one pottery sherd, and one stone tool.

In 1960, human remains representing, at minimum, four individuals were removed from 42SA554, Rogers House, in Lake Canyon, San Juan County, UT. No known individuals were identified. No associated funerary objects are present.

In 1960, human remains representing, at minimum, two individuals were removed from 42SA623, Lyman Flat, in Lake Canyon, San Juan County, UT. No known individuals were identified. No associated funerary objects are present.

In 1961, human remains representing, at minimum, five individuals were removed from 42SA738, Ivy Shelter, in Moqui Canyon, San Juan County, UT. No known individuals were identified. The 28 associated funerary objects are eight pottery vessels, five baskets fragments, five cordage fragments, five projectile points, two wooden foot boards, one cradleboard in fragments, one digging stick, and one forked stick.

In 1962, human remains representing, at minimum, one individual were removed from 42SA1010, Scorup Pasture, in Castle Wash, San Juan County, UT. No known individuals were identified. No associated funerary objects are present.

Excavation of all the above sites was carried out from 1957 to 1962 by University of Utah archeologists under contract with the National Park Service, prior to the construction of Glen Canyon Dam, as part of the Upper Colorado River Basin Archaeological Salvage Project. The human remains and associated funerary objects date from the Pueblo I through Pueblo III period (approximately A.D. 750-1350).

Determinations Made by U.S. Department of the Interior, Bureau of Reclamation

Officials of the U.S. Department of the Interior, Bureau of Reclamation has determined that:

• Pursuant to 25 U.S.C. 3001(9), the human remains described in this notice represent the physical remains of 24 individuals of Native American ancestry.

• Pursuant to 25 U.S.C. 3001(3)(A), the 41 objects described in this notice are reasonably believed to have been placed with or near individual human remains at the time of death or later as part of the death rite or ceremony.

• Pursuant to 25 U.S.C. 3001(2), there is a relationship of shared group identity that can be reasonably traced between the Native American human remains and associated funerary objects and the Hopi Tribe of Arizona, based on lifeway, oral tradition, folklore, geography, anthropology, ceramic design, rock art, basketry, kiva plan, kinship and linguistics, dentition, mitochondrial DNA, and expert opinion.

Additional Requestors and Disposition

Lineal descendants or representatives of any Indian Tribe or Native Hawaiian organization not identified in this notice that wish to request transfer of control of these human remains and associated funerary objects should submit a written request with information in support of the request to Bill R. Chada, U.S. Department of the Interior, Bureau of Reclamation, Upper Colorado Region, 125 South State Street, Room 8100, Salt Lake City, UT 84138, telephone (801) 524-3646, email bchada@usbr.gov, by March 11, 2019. After that date, if no additional requestors have come forward, transfer of control of the human remains and associated funerary objects to the Hopi Tribe of Arizona may proceed.

The U.S. Department of the Interior, Bureau of Reclamation is responsible for notifying The Consulted Tribes that this notice has been published.

Dated: December 4, 2018.
Melanie O'Brien,
Manager, National NAGPRA Program.

[FR Doc. 2019-01620 Filed 2-7-19; 8:45 am]

BILLING CODE 4312-52-P